DEPARTMENT OF THE INTERIOR

Bureau of Land Management

[LLWO200000/LXSGPL000000/17x/L11100000.PH0000]

Notice of Intent To Amend Land Use Plans Regarding Greater Sage-Grouse Conservation and Prepare Associated Environmental Impact Statements or Environmental Assessments; Correction

AGENCY: Bureau of Land Management, Interior.

ACTION: Notice of intent; correction.

SUMMARY: This action corrects typographical errors in the FOR FURTHER INFORMATION CONTACT section of a notice published in the Federal Register on Wednesday, October 11, 2017.

ADDRESSES: Comments regarding this Correction Notice should be sent to Johanna Munson by phone at (208) 373-3834, email at BLM_sagegrouseplanning@blm.gov, or mail: 1387 South Vinnell Way, Boise, ID 83709.

FOR FURTHER INFORMATION CONTACT: You may submit comments or get further information by visiting http://bit.ly/GRSGplanning. For contact information or a list of local BLM contacts, please see the FOR FURTHER INFORMATION CONTACT, or SUPPLEMENTARY INFORMATION sections in the original notice.

Correction

In the Federal Register of October 11, 2017 (82 FR 47248) in FR Doc. 2017-21958 correct the following:

On page 47248, column 3, which reads “State Office at (208) 373-7834” is hereby corrected to read, “State Office at (208) 373-3834”.

On page 47248, column 3, which reads “83708” is hereby corrected to read “83709”.

Before including your address, phone number, email address, or other personal identifying information in your comments, please be aware that your entire comment, including your personal identifying information, may be made publicly available at any time. While you can ask us in your comment to withhold your personal identifying information from public review, we cannot guarantee that we will be able to do so.

John F. Ruhs,
Acting BLM Deputy Director, Operations.

[FR Doc. 2017-23804 Filed 10-31-17; 8:45 am]

BILLING CODE 4310-84-P